DEPARTMENT OF TRANSPORTATION

Pipeline and Hazardous Materials Safety Administration

International Standards on the Transport of Dangerous Goods; Public Meeting.

AGENCY: Pipeline and Hazardous Materials Safety Administration (PHMSA), Department of Transportation.

ACTION: Notice of public meeting.

SUMMARY: This notice is to advise interested persons that PHMSA will conduct a public meeting in preparation for the 31st session of the United Nation's Sub-Committee of Experts on the Transport of Dangerous Goods (UNSCOE) to be held July 2-6, 2007 in Geneva, Switzerland. In addition, input will be solicited on a five year agenda prioritizing PHMSA's international work.

DATES: Wednesday June 20, 2007; 9:30 a.m.-12:30 p.m.

ADDRESSES: The meeting will be held at the new DOT Headquarters, West Building, Conference Rooms 8, 9 and 10, 1200 New Jersey Avenue, SE., Washington, DC 20590.

FOR FURTHER INFORMATION CONTACT: Mr. Duane Pfund, Director, Office of International Standards, Office of Hazardous Materials Safety, Department of Transportation, Washington, DC 20590; (202) 366-0656.

SUPPLEMENTARY INFORMATION: The primary purpose of this meeting will be to prepare for the 31st session of the UNSCOE and to discuss draft U.S. postions on UNSCOE proposals. The 31st session of the UNSCOE is the first meeting in the current biennium cycle. The UNSCOE will consider proposals for the 16th Revised Edition of the United Nations Recommendations on the Transport of Dangerous Goods Model Regulations which will come into force in the international regulations from January 1, 2011. Topics to be covered during the public meetings include:

Transport of limited quantities and consumer commodities, classification and transport of explosives, transport of fireworks, subsidiary labeling for toxic by inhalation liquids, testing of aerosols, harmonization with the IAEA Regulations for the safe transport of radioactive materials, guiding principles for the development of the Model Regulations, and various miscellaneous proposals related to listing, classification, and hazard communication. In addition to soliciting comments on proposals to be considered at UNSCOE's 31st session, we are also soliciting comments on possible work items for future UNSCOE meetings.

To ensure transparency, stakeholder participation, and accountability, we are in addition developing a five-year agenda to establish priorties for our international work. This planning mechanism will allow us to forecast new technology developments and ensure appropriate safety regulations are implemented in a timely manner.

The public is invited to attend without prior notification. Due to the heightened security measures participants are encouraged to arrive early to allow time for security checks necessary to obtain access to the building. In lieu of conducting a public meeting after the 31st session of the UNSCOE to present the results of the session, PHMSA will place a copy of the Sub-Committee's report and an updated copy of the pre-meeting summary document on PHMSA's Hazardous Materials Safety Homepage at http://hazmat.dot.gov/regs/intl/instandards.htm.

Documents

Copies of documents for the UNSCOE meeting and the meeting agenda may be obtained by downloading them from the United Natins Transport Division's web site at: http://www.unece.org/trans/main/dgdb/dgsubc/c32007.html. This site may also be accessed through PHMSA's Hazardous Materials Safety homepage at http://hazmat.dot.gov/regs/intl/intstandards.htm. PHMSA's site provides additional information regarding the UNSCOE and related matters such as a summary of decisions taken at previous sessions of the UNSCOE.

Robert A. Richard,
Deputy Associate Administrator for Hazardous Materials Safety.

[FR Doc. 07-2868 Filed 6-8-07; 8:45 am]

BILLING CODE 4910-60-M